DEPARTMENT OF THE INTERIOR

Geological Survey

[GX19GG00995TR00]

Call for Nominations for the National Earthquake Prediction Evaluation Council

AGENCY: U.S. Geological Survey, Department of the Interior.

ACTION: Call for nominations.

SUMMARY: The Department of the Interior is seeking nominations to serve on the National Earthquake Prediction Evaluation Council (NEPEC). The NEPEC provides advice and recommendations to the Director of the U.S. Geological Survey (USGS) on earthquake predictions and related scientific research.

DATES: Nominations to participate on the NEPEC must be received by August 26, 2019.

ADDRESSES: Send nominations electronically to NEPEC_FACA_Resumes@usgs.gov or by mail to Linda Huey, U.S. Geological Survey, U.S. Department of the Interior, 12201 Sunrise Valley Drive, Mail Stop 905, Reston, VA 20192.

FOR FURTHER INFORMATION CONTACT: Dr. Michael Blanpied, U.S. Geological Survey, MS 905, 12201 Sunrise Valley Drive, Reston, Virginia 20192; 703-648-6696; mblanpied@usgs.gov

SUPPLEMENTARY INFORMATION: The NEPEC conducts its operations in accordance with the provisions of the Federal Advisory Committee Act. The NEPEC provides recommendations and advice to the Director of the USGS (Director), and functions solely as an advisory body.

The NEPEC includes up to 12 members, who are qualified in the seismic sciences and other appropriate fields involved in national earthquake research activities. NEPEC members will be experts in the scientific disciplines that bear on earthquake prediction or other relevant disciplines involved in forecasting natural hazards or public response to such forecasts. NEPEC members are appointed for 3-year terms. Nominations received through this call may be used to fill future vacancies on the NEPEC. Nominations will be reviewed by the USGS and additional information may be requested from nominees. Final selection and appointment of NEPEC members will be made by the Director.

The NEPEC meets approximately 1 time per year. The NEPEC may be required to meet on short notice to address an urgent situation regarding an earthquake prediction or other earthquake emergency. NEPEC members will serve without compensation, but travel and per diem costs will be provided by the USGS. The USGS will also provide necessary support services to the NEPEC. NEPEC meetings are open to the public.

Nominations may come from individuals, employers, associations, professional organizations, or other geospatial organizations. Nominations should include a resume or curriculum vitae providing an adequate description of the nominee's qualifications sufficient for the USGS to make an informed decision regarding meeting the membership requirements of the NEPEC and permit the nominated person to be contacted. Nominations may optionally include supporting letters from employers, associations, professional organizations, and/or other organizations.

Additional information about the NEPEC and the nomination process is posted on the NEPEC web page at https://www.nehrp.gov/committees/index.htm.

Authority: 5 U.S.C. Appendix 2.

Trent Richardson,
Deputy Associate Director, Natural Hazards Mission Area.

[FR Doc. 2019-15726 Filed 7-23-19; 8:45 am]

BILLING CODE 4338-11-P